DEPARTMENT OF HOUSING AND URBAN DEVELOPMENT

[Docket No. FR-5610-N-09]

Notice of Proposed Information Collection for Public Comment; Screening and Eviction for Drug Abuse and Other Criminal Activity

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

The information and collection requirements consist of PHA screening requirements to obtain criminal conviction records from law enforcement agencies to prevent admission of criminals into the public housing and Section 8 programs and to assist in lease enforcement and eviction of those individuals in the public housing and Section 8 programs who engage in criminal activity.

DATES: Comment Due Date: September 17, 2012.

ADDRESSES: Interested persons are invited to submit comments regarding this proposed information collection. Comments should refer to the proposal by name/or OMB Control number and should be sent to: Colette Pollard., Departmental Reports Management Officer, QDAM, Department of Housing and Urban Development, 451 7th Street SW., Room 4160, Washington, DC 20410-5000; telephone 202.402.3400 (this is not a toll-free number) or email Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339.

SUPPLEMENTARY INFORMATION: This notice informs the public that the Department of Housing and Urban Development has submitted to OMB a request for approval of the Information collection described below. This notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Screening and Eviction for Drug Abuse and Other Criminal Activity.

OMB Approval Number: 2577-0232.

Description of the Need for the Information and Its Proposed Use: The information and collection requirements consist of PHA screening requirements to obtain criminal conviction records from law enforcement agencies to prevent admission of criminals into the public housing and Section 8 programs and to assist in lease enforcement and eviction of those individuals in the public housing and Section 8 programs who engage in criminal activity. The reason for the current revision is that the 2009 submission only included the burden hours for Public Housing participants. Because the screening is done for residents in the Public Housing and Section 8 program, the calculations were updated to reflect this reality. The current calculations use the existing formula for burden hours but include voucher residents.

Agency form number, if applicable: None.

Members of affected public: State or Local Government; Public Housing Agencies (PHAs), Individuals or Households.

Estimation of the Total number of hours needed to prepare the information collection including number of respondents, frequency of response, and hours of response: Total Public Housing Burden Hours for screening & eviction (709,585 hours) + Total Voucher Burden Hours for screening & eviction of Voucher participants (1,409,229 hours) = 2,118,814.

Status of the Proposed Information Collection: Revision of a currently approved collection.

Authority: The Paperwork Reduction Act of 1995, 44 U.S.C. Chapter 35, as amended.

Dated: July 13, 2012.
Merrie Nichols-Dixon,
Deputy Director, Office of Policy, Program and Legislative Initiatives.

[FR Doc. 2012-17494 Filed 7-17-12; 8:45 am]

BILLING CODE 4210-67-P